DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Southwest Region Permit Family of Forms—Pacific.

Form Number(s): None.

OMB Approval Number: 0648-0490.

Type of Request: Regular submission.

Burden Hours: 85.

Number of Respondents: 200.

Average Hours per Response: 23 minutes.

Needs and Uses: The permits are required for persons to participate in federally-managed fisheries in the western Pacific region and off the U.S. West Coast. The Western Pacific Fishery Management Council has recommended the National Marine Fisheries Service's (NMFS) approval and implementation of Amendment 11 to the Fishery Management Plan for the Pelagic Fisheries of the Western Pacific Region. Amendment 11 would establish a limited access permit program for the American Samoa-based pelagic longline fishery which necessitates a revised collection of information. The program requires information from potential initial participants and subsequent new entrants (via permit transfers) in the fishery. NMFS will use the information to determine who is eligible for issuance of American Samoa longline limited access permits. The fishermen will be required to use appropriate permit application forms/supplementary information sheets provided by NMFS.

Affected Public: Business or other for-profit organizations; Individuals or households.

Frequency: Variable.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, fax number (202) 395-7285, or David_Rostker@omb.eop.gov.

Dated: March 10, 2005.
Gwellnar Banks,
Management Analyst, Office of the Chief Information Officer.

[FR Doc. 05-5238 Filed 3-16-05; 8:45 am]

BILLING CODE 3510-22-P